DEPARTMENT OF THE INTERIOR

Bureau of Indian Affairs

[190A2100DD/AAKC001030/A0A51010.999900]

Land Acquisitions; San Pasqual Band of Diegueno Mission Indians of California

AGENCY: Bureau of Indian Affairs, Interior.

ACTION: Notice.

SUMMARY: The Assistant Secretary—Indian Affairs has made a final determination to acquire 29 acres, more or less into trust for the San Pasqual Band of Diegueno Mission Indians of California on May 15, 2020.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register.

On ____, the Assistant Secretary—Indian Affairs issued a decision to accept land in trust for the San Pasqual Band of Diegueno Mission Indians of California under the authority of Section 5 of the Indian Reorganization Act of 1934 (48 Stat. 984).

San Pasqual Band of Diegueno Mission Indians of California, County of San Diego, California

Legal Description Containing 29 Acres, More or Less

Parcel 1

The Southeast quarter of the Northwest quarter of Section 22, Township 11 South, Range 1 West, San Bernardino Base and Meridian, in the County of San Diego, State of California, according to the United States Government Survey.

Except the Northerly 312.74 feet measured at right angles thereof.

Parcel 2

An easement for road and utility purposes over the Southerly 15 feet of the Northerly 312.74 feet measured at right angles of said Southeast quarter of the Northwest quarter of said Section.

Assessor's Parcel Number: 189-181-13

The above described real property is identified in San Diego County records as Assessor's Parcel Number 189-181-13, containing 29 acres, more or less.

Tara Sweeney,
Assistant Secretary—Indian Affairs.

[FR Doc. 2020-13887 Filed 6-26-20; 8:45 am]

BILLING CODE 4337-15-P